DEPARTMENT OF EDUCATION

Office of Elementary and Secondary Education

Overview Information; Early Childhood Educator Professional Development Program Notice Inviting Applications for New Awards for Fiscal Year (FY) 2004

Catalog of Federal Domestic Assistance (CFDA) Number: 84.349A.

DATES: Applications Available: February 5, 2004.

Deadline for Transmittal of Applications: March 16, 2004.

Deadline for Intergovernmental Review: May 17, 2004.

Eligible Applicants: A partnership consisting of at least one entity from each of the following categories, as indicated below:

(i) One or more institutions of higher education, or other public or private entities (including faith-based organizations), that provide professional development for early childhood educators who work with children from low-income families in high-need communities.

(ii) One or more public agencies (including local educational agencies, State educational agencies, State human services agencies, and State and local agencies administering programs under the Child Care and Development Block Grant Act of 1990), Head Start agencies, or private organizations (including faith-based organizations).

(iii) If feasible, an entity with demonstrated experience in providing training to educators in early childhood education programs concerning identifying and preventing behavior problems or working with children identified as or suspected to be victims of abuse. This entity may be one of the partners described in paragraphs (i) and (ii) under Eligible Applicants.

A partnership may apply for these funds only if one of the partners currently provides professional development for early childhood educators working in programs located in high-need communities with children from low-income families.

Estimated Available Funds: $14,814,000.

Estimated Range of Awards: $1,000,000-$1,500,000 for one year; $2,000,000-$3,000,000 for two years.

Estimated Average Size of Awards: $1,250,000 for one year; $2,500,000 for two years.

Estimated Number of Awards: 5-15 awards.

Note: The Department is not bound by any estimates in this notice.

Project Period: Up to 24 months.

Full Text of Announcement

I. Funding Opportunity Description

Purpose of Program: The purpose of the Early Childhood Educator Professional Development (ECEPD) program is to enhance the school readiness of young children, particularly disadvantaged young children, and to prevent them from encountering difficulties once they enter school.

Projects funded under the ECEPD program provide high-quality, sustained, and intensive professional development for these early childhood educators in how to provide developmentally appropriate school-readiness services for preschool-age children that are based on the best available research on early childhood pedagogy and on child development and learning.

The specific activities for which recipients may use grant funds are identified in the application package.

Priorities:

This competition includes one absolute priority and one invitational priority that are explained in the following paragraphs. These priorities are as follows. In accordance with 34 CFR 75.105(b)(2)(iv), the absolute priority is from section 2151(e)(5)(A) of the Elementary and Secondary Education Act of 1965, as amended (ESEA), 20 U.S.C. 6651(e)(5)(A).

Absolute Priority: For FY 2004 this priority is an absolute priority. Under 34 CFR 75.105(c)(3) we consider only applications that meet this priority.

This priority is:

High-Need Communities

To provide professional development to early childhood educators who are working in early childhood programs that are located in “high-need communities.”

An eligible applicant must demonstrate in its application narrative how it meets the statutory requirement in section 2151(e)(5)(A) of the ESEA by including relevant demographic and socioeconomic data about the “high-need community” in which the program is located. (See section 2151(e)(3)(B)(i) of the ESEA.)

“High-need community,” as defined in section 2151(e)(9)(B) of the ESEA, means—

(a) A political subdivision of a State, or a portion of a political subdivision of a State, in which at least 50 percent of the children are from low-income families; or

(b) A political subdivision of a State that is among the 10 percent of political subdivisions of the State having the greatest numbers of such children.

Note: The following additional terms used in or related to this absolute priority have statutory definitions that are included in the application package: “early childhood educator,” “low-income family,” and “professional development.”

Under this competition we are particularly interested in applications that address the following priority.

Invitational Priority: For FY 2004 this priority is an invitational priority. Under 34 CFR 75.105(c)(1) we do not give an application that meets this invitational priority a competitive or absolute preference over other applications.

This priority is:

Young Children With Limited English Proficiency, Disabilities, or Other Special Needs

The Secretary is particularly interested in receiving applications that focus on providing professional development for early childhood educators who work with young children (including infants or toddlers, as applicable) with: limited English proficiency; disabilities, as identified under Parts B or C of the Individuals with Disabilities Education Act; or other special needs.

Note: The following terms used in this invitational priority have statutory definitions that are included in the application package: “child with a disability,” “infants and toddlers with disabilities,” “limited English proficient.”

Program Authority: 20 U.S.C. 6651(e).

Applicable Regulations: The Education Department General Administrative Regulations (EDGAR) in 34 CFR parts 74, 75, 77, 79, 80, 81, 82, 84, 85, 86, 97, 98, and 99.

II. Award Information

Type of Award: Discretionary grants.

Estimated Available Funds: $14,814,000.

Estimated Range of Awards: $1,000,000-$1,500,000 for one year; $2,000,000-$3,000,000 for two years.

Estimated Average Size of Awards: $1,250,000 for one year; $2,500,000 for two years.

Estimated Number of Awards: 5-15 awards.

Note: The Department is not bound by any estimates in this notice.

Project Period: Up to 24 months.

III. Eligibility Information

1. Eligible Applicants: A partnership consisting of at least one entity from each of the following categories, as indicated below:

(i) One or more institutions of higher education, or other public or private entities (including faith-based organizations), that provide professional development for early childhood educators who work with children from low-income families in high-need communities.

(ii) One or more public agencies (including local educational agencies, State educational agencies, State human services agencies, and State and local agencies administering programs under the Child Care and Development Block Grant Act of 1990), Head Start agencies, or private organizations (including faith-based organizations).

(iii) If feasible, an entity with demonstrated experience in providing training to educators in early childhood education programs concerning identifying and preventing behavior problems or working with children identified as or suspected to be victims of abuse. This entity may be one of the partners described in paragraphs (i) and (ii) under Eligible Applicants.

A partnership may apply for these funds only if one of the partners currently provides professional development for early childhood educators working in programs located in high-need communities with children from low-income families.

2. Cost Sharing or Matching: Each partnership that receives a grant under this program must provide (1) at least 50 percent of the total cost of the project for the entire grant period; and (2) at least 20 percent of the project cost for each year. The project may provide these funds from any source, other than this program, including other Federal sources. The partnership may satisfy these cost-sharing requirements by providing contributions in cash or in-kind, fairly evaluated, including plant, equipment, and services. Only allowable costs may be counted as part of the grantee's share. For example, any indirect costs over and above the allowable amount may not be counted toward a grantee's share. For additional information about indirect costs, see section IV.5. of this notice.

IV. Application and Submission Information

1. Address To Request Application Package: Education Publications Center (ED Pubs), P.O. Box 1398, Jessup, MD 20794-1398. Telephone (toll free): 1-877-433-7827. FAX: (301) 470-1244. If you use a telecommunications device for the deaf (TDD), you may call the Federal Information Relay Service (FIRS) at 1-800-877-8339.

You may also contact ED Pubs at its Web site: http://www.ed.gov/pubs/edpubs.html or you may contact ED Pubs at its e-mail address: edpubs@inet.ed.gov.

If you request an application from ED Pubs, be sure to identify this competition as follows: CFDA number 84.349A. The public also may obtain a copy of the application package on the Department's Web site at the following address: http://www.ed.gov/programs/eceducator/index.html.

Individuals with disabilities may obtain a copy of the application package in an alternative format (e.g., Braille, large print, audiotape, or computer diskette) by contacting the program contact person listed under For Further Information Contact elsewhere in this notice. However, the Department is not able to reproduce in an alternative format the standard forms included in the application package.

2. Content and Form of Application Submission: Requirements concerning the content of an application, together with the forms you must submit, are in the application package for this program competition.

Page Limit: The application narrative (Part III of the application) is where you, the applicant, address the absolute priority and the selection criteria that reviewers use to evaluate your application. You must limit Part III to the equivalent of no more than 30 typed pages and the additional budget narrative to the equivalent of no more than 5 typed pages, using the following standards.

• A “page” is 8.5″ x 11″, on one side only, with 1″ margins at the top, bottom, and both sides.

• Double space (no more than three lines per vertical inch) all text in the application narrative, including titles, headings, footnotes, quotations, references, and captions. You may single space information in tables, charts, or graphs, and you may single space the limited Appendices.

• Use a font that is either 12-point or larger or no smaller than 10 pitch (characters per inch). You may use other point fonts for any tables, charts, graphs, and the limited Appendices, but those tables, charts, graphs and limited Appendices should be in a font size that is easily readable by the reviewers of your application.

• Any tables, charts, or graphs are included in the overall narrative page limit. The limited Appendices, including the required Partnership Agreement, are not part of these page limits.

• Appendices are limited to the following: required Partnership Agreement; and curriculum vitae of key personnel (including key contract personnel and consultants).

• Other application materials are limited to the specific materials indicated in the application package, and may not include any video or other non-print materials.

Our reviewers will not read any pages of your application that—

• Exceed the page limits if you apply these standards; or

• Exceed the equivalent of the page limits if you apply other standards.

3. Submission Dates and Times:

Applications Available: February 5, 2004.

Deadline for Transmittal of Applications: March 16, 2004. The dates and times for the transmittal of applications by mail or by hand (including a courier service or commercial carrier) are in the application package for this program. The application package also specifies the hours of operation of the e-Application Web site.

We do not consider an application that does not comply with the deadline requirements.

Deadline for Intergovernmental Review: May 17, 2004.

4. Intergovernmental Review: This program is subject to Executive Order 12372 and the regulations in 34 CFR part 79. Information about Intergovernmental Review of Federal Programs under Executive Order 12372 is in the application package for this program.

5. Funding Restrictions:

(a) Indirect Costs. For purposes of indirect cost charges, the Secretary considers all Early Childhood Educator Professional Development program grants to be “educational training grants” within the meaning of section 75.562(a) of EDGAR (34 CFR 75.562(a)). Consistent with 34 CFR 75.562, the indirect cost rate for any fiscal agent other than a State agency or agency of local government (such as a local educational agency) is limited to a maximum of eight percent or the amount permitted by the fiscal agent's negotiated indirect cost rate agreement, whichever is less. Further information about indirect cost rates, and on how to apply for a negotiated indirect cost rate for fiscal agents that do not yet have one, is available at the following Web site: http://www.ed.gov/about/offices/list/ocfo/fipao/icgindex.html.

(b) Pre-award Costs: For FY 2004 the Secretary exercises his authority under sections 75.263 and 74.25(e)(1) of EDGAR (34 CFR 75.263 and 74.25(e)(1)) to approve pre-award costs incurred by recipients of these grants more than 90 calendar days before the grant award. Specifically, the Secretary approves necessary and reasonable pre-award costs incurred by these grant recipients for up to 90 days before the application due date. These pre-award costs must be related to the needs assessment that applicants conduct under section 2151(e)(3)(B)(iii) of the ESEA before submitting their applications, to determine the most critical professional development needs of the early childhood educators to be served by the project and in the broader community.

Applicants incur any pre-award costs at their own risk. The Secretary is under no obligation to reimburse these costs if for any reason the applicant does not receive an award or if the award is less than anticipated and inadequate to cover these costs.

We reference additional regulations outlining funding restrictions in the Applicable Regulations section of this notice.

6. Other Submission Requirements: Instructions and requirements for the transmittal of applications by mail or by hand (including a courier service or commercial carrier) are in the application package for this program.

Application Procedures:

Note: Some of the procedures in these instructions for transmitting applications differ from those in the Education Department General Administrative Regulations (EDGAR) (34 CFR 75.102). Under the Administrative Procedure Act (5 U.S.C. 553) the Department generally offers interested parties the opportunity to comment on proposed regulations. However, these amendments make procedural changes only and do not establish new substantive policy. Therefore, under 5 U.S.C. 553(b)(A), the Secretary has determined that proposed rulemaking is not required.

Pilot Project for Electronic Submission of Applications:We are continuing to expand our pilot project for electronic submission of applications to include additional formula grant programs and additional discretionary grant competitions. Early Childhood Educator Professional Development—CFDA Number 84.349A is one of the programs included in the pilot project. If you are an applicant under Early Childhood Educator Professional Development, you may submit your application to us in either electronic or paper format.

The pilot project involves the use of the Electronic Grant Application System (e-Application). If you use e-Application, you will be entering data online while completing your application. You may not e-mail an electronic copy of a grant application to us. If you participate in this voluntary pilot project by submitting an application electronically, the data you enter online will be saved into a database. We request your participation in e-Application. We shall continue to evaluate its success and solicit suggestions for its improvement.

If you participate in e-Application, please note the following:

• Your participation is voluntary.

• When you enter the e-Application system, you will find information about its hours of operation. We strongly recommend that you do not wait until the application deadline date to initiate an e-Application package.

• You will not receive additional point value because you submit a grant application in electronic format, nor will we penalize you if you submit an application in paper format.

• You may submit all documents electronically, including the Application for Federal Education Assistance (ED 424), Budget Information—Non-Construction Programs (ED 524), and all necessary assurances and certifications.

• Your e-Application must comply with any page limit requirements described in this notice.

• After you electronically submit your application, you will receive an automatic acknowledgement, which will include a PR/Award number (an identifying number unique to your application).

• Within three working days after submitting your electronic application, fax a signed copy of the Application for Federal Education Assistance (ED 424) to the Application Control Center after following these steps:

1. Print ED 424 from e-Application.

2. The institution's Authorizing Representative must sign this form.

3. Place the PR/Award number in the upper right hand corner of the hard copy signature page of the ED 424.

4. Fax the signed ED 424 to the Application Control Center at (202) 260-1349.

• We may request that you give us original signatures on other forms at a later date.Application Deadline Date Extension in Case of System Unavailability: If you elect to participate in the e-Application pilot for Early Childhood Educator Professional Development and you are prevented from submitting your application on the application deadline date because the e-Application system is unavailable, we will grant you an extension of one business day in order to transmit your application electronically, by mail, or by hand delivery. We will grant this extension if—

1. You are a registered user of e-Application, and you have initiated an e-Application for this competition; and

2. (a) The e-Application system is unavailable for 60 minutes or more between the hours of 8:30 a.m. and 3:30 p.m., Washington, DC time, on the application deadline date; or

(b) The e-Application system is unavailable for any period of time during the last hour of operation (that is, for any period of time between 3:30 p.m. and 4:30 p.m., Washington, DC time) on the application deadline date.

We must acknowledge and confirm these periods of unavailability before granting you an extension. To request this extension or to confirm our acknowledgement of any system unavailability, you may contact either (1) the person listed elsewhere in this notice under For Further Information Contact (see VII. Agency Contact) or (2) the e-GRANTS help desk at 1-888-336-8930.

You may access the electronic grant application for Early Childhood Educator Professional Development at: http://e-grants.ed.gov/.

V. Application Review Information

1. Selection Criteria: The selection criteria for this program are from section 75.210 of EDGAR, 34 CFR 75.210, and are identified in the application package.

2. Review and Selection Process: An additional factor we consider in selecting an application for an award is geographical distribution (section 2151(e)(4)(B) of the ESEA).

VI. Award Administration Information

1. Award Notices: If your application is successful, we notify your U.S. Representative and U.S. Senators and send you a Grant Award Notice (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: For FY 2004, grants under this program will be governed by the achievement indicators that the Secretary published in the Federal Register on March 31, 2003 (68 FR 15646-15648). These achievement indicators are included in the application package.

VII. Agency Contact

For Further Information Contact: Early Childhood Educator Professional Development (ECEPD) program, c/o Rosemary Fennell, U.S. Department of Education, 400 Maryland Avenue, SW., Washington, DC 20202-6132. Telephone: (202) 260-0792, or via Internet: eceprofdev@ed.gov.

If you use a telecommunications device for the deaf (TDD), you may call the Federal Information Relay Service (FIRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: www.gpoaccess.gov/nara/index.html.

Dated: February 2, 2004.
Raymond Simon,
Assistant Secretary for Elementary and Secondary Education.

[FR Doc. 04-2520 Filed 2-4-04; 8:45 am]

BILLING CODE 4000-01-P